DEPARTMENT OF STATE

[Public Notice: 10589]

Department of State Performance Review Board Members

In accordance with section 4314(c)(4) of 5 United States Code, the Department of State has appointed the following individuals to the Department of State Performance Review Board for Senior Executive Service members:

Jeffrey C. Mounts, Chairperson, Deputy Comptroller, Comptroller, Global Financial Services, Department of State;

Maegan Conklin, Assistant Legal Adviser, Office of the Legal Adviser, Department of State;

Eliot Kang, Principal Deputy Assistant Secretary, Bureau of International Security and Nonproliferation, Department of State;

Cathy J. Read, Procurement Executive, Bureau of Administration, Department of State; and,

Marc L. Ostfield, Deputy Director, Foreign Service Institute, Department of State.

Dated: September 27, 2018.
William Todd,
Acting, Director General of the Foreign Service and Director of Human Resources, Department of State.

[FR Doc. 2018-22839 Filed 10-18-18; 8:45 am]

BILLING CODE 4710-15-P